DEPARTMENT OF LABOR

Employment and Training Administration

[TA-W-50,548]

Gilster Mary Lee Corporation Including Leased Workers of Aid Temporary Services, Wilson, AR; Amended Certification Regarding Eligibility To Apply for Worker Adjustment Assistance

In accordance with section 223 of the Trade Act of 1974 (19 U.S.C. 2273) the Department of Labor issued a Certification of Eligibility to Apply for Worker Adjustment Assistance on January 29, 2003, applicable to workers of Gilster Mary Lee Corporation, Wilson, Arkansas. The notice was published in the Federal Register on February 24, 2003 (68 FR 8620).

At the request of the petitioners, the Department reviewed the certification for workers of the subject firm. Information provided by the company shows that leased workers of AID Temporary Services were employed at Gilster Mary Lee Corporation to produce tea at the Wilson, Arkansas location of the subject firm.

Based on these findings, the Department is amending this certification to include leased workers of AID Temporary Services, Osceola, Arkansas employed at Gilster Mary Lee Corporation, Wilson, Arkansas.

The intent of the Department's certification is to include all workers of Gilster Mary Lee Corporation who were adversely affected by increased imports.

The amended notice applicable to TA-W-50,548 is hereby issued as follows:

All workers of Gilster Mary Lee Corporation, Wilson, Arkansas, who were engaged in activities related to the packaging of tea, including leased workers of AID Temporary Services, Osceola, Arkansas, who were engaged in activities related to the packaging of tea at Gilster Mary Lee Corporation, Wilson, Arkansas, who became totally or partially separated from employment on or after January 10, 2002, through January 29, 2005, are eligible to apply for adjustment assistance under section 223 of the Trade Act of 1974.

Signed at Washington, DC this 6th day of May 2003.
Elliott S. Kushner,
Certifying Officer, Division of Trade Adjustment Assistance.

[FR Doc. 03-12423 Filed 5-16-03; 8:45 am]

BILLING CODE 4510-30-P